DEPARTMENT OF HEALTH AND HUMAN SERVICES

Centers for Disease Control and Prevention

Notice of Award of a Single-Source Cooperative Agreement To Fund India Council of Medical Research (IMCR) and ICMR Institutions: National Institute of Virology (NIV), Pune and National Institute of Epidemiology (NIE), Chennai

AGENCY: Centers for Disease Control and Prevention (CDC), Department of Health and Human Services (HHS).

ACTION: Notice.

SUMMARY: The Centers for Disease Control and Prevention (CDC), located within the Department of Health and Human Services (HHS), announces three (3) separate awards within the government of India to include the Indian Council of Medical Research (ICMR) New Delhi, National Institute of Virology (NIV) and National Institute of Epidemiology (NIE). For ICMR New Delhi, the award is for approximately $8,165,0000 with an expected total funding of approximately $24,495,000. For NIV, the award is for approximately $8,165,0000 with an expected total funding of approximately $24,495,000. For NIE, the award is for approximately $8,165,0000 with an expected total funding of approximately $24,495,000. The total 5-year period amount for the three recipients is $122,475,000. The awards will accelerate progress toward an India safe and secure from infectious disease threats through ICMR institutions' focus on emerging and re-emerging pathogens, including detecting, and controlling zoonotic disease outbreaks through a One Health approach; evaluating vaccine safety monitoring systems; capacitating the public health workforce in field epidemiology and outbreak response; and combating antimicrobial resistance.

DATES: The period for these awards will be September 30, 2022, through September 29, 2027.

FOR FURTHER INFORMATION CONTACT: Shana Eatman, Centers for Disease Control and Prevention, 1825 Century Center, MS V18-3, Atlanta, GA 30345, Telephone: 770-488-3933, E-Mail: DGHPNOFOs@cdc.gov.

SUPPLEMENTARY INFORMATION: The single-source awards will continue support to strengthening cooperation with and capacity of the India Council of Medical Research (ICMR) institutions to prevent avoidable epidemics, early detection of disease threats, and rapid and effective response.

India Council of Medical Research is in a unique position to conduct this work, as it was originally established as an apex body for the formulation, coordination, and promotion of biomedical research in India, and has taken up most of the laboratory-based surveillance of infectious diseases in recent years. Eligibility for funding is limited to the ICMR, New Delhi and ICMR institutions including the National Institute of Virology (NIV), Pune and the National Institute of Epidemiology (NIE), Chennai. ICMR is the apex governing body for the numerous national level institutes which are centres for excellence and reference in specific scientific area for India, namely National Institute of Virology, National Institute of Epidemiology, and several others. These institutions are mandated by the Ministry of Health of Family Health and Welfare (MoHFW) to provide oversight for laboratory confirmation of priority pathogens in India in a tiered manner as well as collate and analyze surveillance data for public health actions and work closely with the state governments where these institutes are located.

Summary of the Award

Recipient: India Council of Medical Research (IMCR), New Delhi and ICMR institutions: National Institute of Virology (NIV), Pune and National Institute of Epidemiology (NIE), Chennai.

Purpose of the Award: The purpose of these awards is to accelerate progress toward an India safe and secure from infectious disease threats through ICMR institutions' focus on emerging and re-emerging pathogens, including detecting, and controlling zoonotic disease outbreaks through a One Health approach; evaluating vaccine safety monitoring systems; capacitating the public health workforce in field epidemiology and outbreak response; and combating antimicrobial resistance. These GHS strategies will result in outcomes that will strengthen the Indian public health system; decrease morbidity and mortality; and improve pandemic and epidemic preparedness and response.

Amount of Award: $8,165,000 in Federal Fiscal Year (FFY) 2022 funds per institution, with a total estimated $122,475,0000 for the 5-year period of performance, subject to availability of funds. Please note, the NOFO funding strategy is as follows: $660,000 for Core Component 1, and $7,505,000 in Approved but Unfunded (ABU) Components for each recipient.

Authority: This program is authorized under Section 307 of the Public Health Service Act [42 U.S.C. 242I] and Section 301(a) [42 U.S.C. 241(a)] of the Public Health Service Act.

Period of Performance: September 30, 2022, through September 29, 2027.

Dated: June 9, 2022.
Terrance Perry,
Chief Grants Management Officer, Centers for Disease Control and Prevention.

[FR Doc. 2022-12850 Filed 6-14-22; 8:45 am]

BILLING CODE 4163-18-P